DEPARTMENT OF LABOR

Employment and Training Administration

[TA-W-57,567; TA-W-57,567A; TA-W-57,567B]

Determinations Regarding Eligibility To Apply for Worker Adjustment Assistance and Alternative Trade Adjustment Assistance

In accordance with section 223 of the Trade Act of 1974, as amended (19 U.S.C. 2273), the Department of Labor herein presents the results of an investigation regarding certification of eligibility to apply for worker adjustment assistance. The group eligibility requirements for directly-impacted (primary) workers under Section 222(a) of the Trade Act of 1974, as amended, can be satisfied in either of two ways:

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

The investigation was initiated on July 19, 2005 in response to a petition filed by a company official on behalf of workers of Cequent Electrical Products, Light Assemblies Product Line (TA-W-57,567), Breakaway Switches Product Line (TA-W-57,567A), and Cable Connectors (TA-W-57,567B), Albion, Indiana. The workers produce light assemblies, breakaway switches, and cable connectors for the recreational vehicle industry; workers are separately identifiable by product line.

With regards to the Light Assemblies Product Line, the investigation revealed that criteria (a)(2)(A)(I.C) and (a)(2)(B)(II.B) were not met.

The investigation revealed that the subject firm did not import light assemblies, nor did it shift production abroad during the relevant period.

The production of light assemblies will be transferred to a domestic facility upon the subject facility's shutdown on September 30, 2005.

With regards to the Breakaway Switches Product Line, it is determined in this case that the requirements of (a)(2)(A) and (a)(2)(C) of section 222 have been met.

The investigation revealed that the subject firm will start shifting production of breakaway switches to China and import them back into the United States upon the subject plant's shutdown on September 30, 2005.

With regards to the Cable Connectors Product Line, it is determined in this case that the requirements of (a)(2)(B) of section 222 have been met.

The declines in employment, sales, and production at the subject product line are related to a shift in production of cable connectors to a country (Mexico) that is a party to a free trade agreement with the United States. The shift will commence upon the subject facility's shutdown on September 30, 2005.

In addition, in accordance with section 246 of the Trade Act of 1974 (26 U.S.C. 2813), as amended, the Department of Labor herein presents the results of its investigation regarding certification of eligibility to apply for alternative trade adjustment assistance (ATAA) for older workers.

With respect to workers producing lights, in order for the Department to issue a certification of eligibility to apply for ATAA, the worker group must be certified eligible to apply for trade adjustment assistance (TAA). Since the workers are denied eligibility to apply for TAA, the workers cannot be certified eligible for ATAA.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The Department has determined that with respect to workers producing switches and connectors, criterion 2 has not been met. The workers' possess skills that are easily transferable to new positions.

Conclusion

After careful review, I determine that all workers of Cequent Electrical Products, Light Assemblies Product Line, Albion, Indiana (TA-W-57,567) are denied eligibility to apply for adjustment assistance under Section 223 of the Trade Act of 1974.

Furthermore, after careful review, I determine that increases of imports of articles like or directly competitive with those produced by the Breakaway Switches Product Line contributed importantly to the total or partial separation of workers and to the decline in sales or production and at that firm or subdivision. I also determine that there was a shift in production from the Cable Connectors Product Line to Mexico of articles that are like or directly competitive with those produced by the subject firm or subdivision. In accordance with the provisions of the Act, I make the following certification:

All workers of Cequent Electrical Products, Breakaway Switches Product Line, Albion, Indiana (TA-W-57,567A), and Cequent Electrical Products, Cable Connectors Product Line Albion, Indiana (TA-W-57,567B), who became totally or partially separated from employment on or after July 15, 2004 through two years from the date of certification are eligible to apply for adjustment assistance under Section 223 of the Trade Act of 1974.

I further determine that all workers of Cequent Electrical Products, Light Assemblies Product Line (TA-W-57,567), Breakaway Switches Product Line, (TA-W-57,567A), and Cable Connections Product Line, Albion, Indiana (TA-W-57,567B), are denied eligibility to apply for alternative trade adjustment assistance under section 246 of the Trade Act of 1974, as amended.

Signed in Washington, DC, this 14th day of September, 2005.
Richard Church,
Certifying Officer, Division of Trade Adjustment Assistance.

[FR Doc. E6-1492 Filed 2-2-06; 8:45 am]

BILLING CODE 4510-30-P